NUCLEAR REGULATORY COMMISSION

[Docket No. 72-7]

Nuclear Management Company; Palisades Independent Spent Fuel Storage Installation; Environmental Assessment and Finding of No Significant Impact

The U.S. Nuclear Regulatory Commission (NRC or Commission) is considering issuance of an exemption to Nuclear Management Company, LLC (NMC or licensee), pursuant to 10 CFR 72.7, from specific provisions of 10 CFR 72.212(a)(2), 72.212(b)(2)(i)(A), 72.212(b)(7), and 72.214. The licensee wants to use the Transnuclear, Inc. (TN) NUHOMS Storage System, Certificate of Compliance No. 1004 (CoC or Certificate) Amendment No. 8 (32PT dry shielded canister (DSC)) to store spent nuclear fuel under a general license in an Independent Spent Fuel Storage Installation (ISFSI) associated with the operation of the Palisades Nuclear Plant (PNP), located in Van Buren County, Michigan. The requested exemption would allow NMC to store fuel in the TN NUHOMS®-32PT system using revised fuel specifications and fuel qualification tables prior to completion of the proposed TN NUHOMS CoC Amendment No. 8 rulemaking.

Environmental Assessment (EA)

Identification of Proposed

The proposed action would exempt NMC from the requirements of 10 CFR 72.212(a)(2), 72.212(b)(2)(i)(A), 72.212(b)(7), and 72.214 and enable NMC to use the TN NUHOMS®-32PT cask design as amended by proposed TN NUHOMS® CoC No. 1004, Amendment No. 8 at PNP. These regulations specifically require storage in casks approved under the provisions of 10 CFR Part 72 and compliance with the conditions set forth in the CoC for each dry spent fuel storage cask used by an ISFSI general licensee. The TN NUHOMS® CoC provides requirements, conditions, and operating limits in Attachment A, Technical Specifications. The proposed action would exempt NMC from the requirements of 10 CFR 72.212(a)(2) and 72.214 enabling the licensee to store fuel in the TN NUHOMS®-32PT DSC system prior to the effective date of the final rule change for the Amendment No. 8 approving the issuance of this amended CoC. The proposed action would also exempt NMC from the requirements of 10 CFR 72.212(b)(2)(i)(A) and 72.212(b)(7) to allow the use of revised fuel specification and fuel qualification tables in the proposed CoC for Amendment No. 8. Specifically, the exemption would be from the requirement that does not include provisions for the loading of low enrichment/high burnup fuel, assemblies with stainless steel plugging clusters, and reconstituted fuel into the NUHOMS-32PT storage system. NMC requested that the exemptions remain in effect for 90 days following the effective date of the final rule change to 10 CFR 72.214 to incorporate TN CoC No. 1004, Amendment No. 8. The proposed action would allow NMC to use the 32PT system as described in the proposed TN NUHOMS® CoC Amendment No. 8 requests currently under staff review.

The proposed action is in accordance with the licensee's request for exemption dated August 22, 2005, as supplemented on September 20, 2005,

Need for the Proposed Action

The proposed action is needed because NMC plans to initiate the transfer of the PNP spent fuel pool contents to the ISFSI in October 2005. The NMC transfer campaign includes loading fuel assemblies with low enrichment/high burnup, assemblies with stainless steel plugging clusters, and reconstituted fuel from the spent fuel pool into the 32PT DSC. Loading of these types of fuel assemblies would not be permitted based on the current TS for the NUHOMS®-32PT storage system. The proposed Amendment No. 8 to CoC No. 1004, as transmitted by TN in a letter dated, June 10, 2005, includes proposed changes to TS 1.2.1, “Fuel Specifications.” The proposed TS changes contain provisions for low enrichment/high burnup fuel, assemblies with stainless steel plugging clusters, and reconstituted fuel to be loaded into the NUHOMS®-32PT DSC. The proposed action is necessary because the 10 CFR 72.214 rulemaking to implement the TN NUHOMS® CoC Amendment No. 8 is not projected for completion until late Fall 2005, which will not support the PNP fuel transfer and dry cask storage loading schedule.

Environmental Impacts of the Proposed Action

The NRC has completed its evaluation of the proposed action and concludes that there will be no significant environmental impact if the exemptions are granted. The staff reviewed the analyses provided in the TN NUHOMS® amendment application addressing the NUHOMS®-32PT system. Included in this application were the revised fuel specification and fuel qualification tables that allow the loading of fuel assemblies with low enrichment/high burnup fuel, assemblies with stainless steel plugging clusters, and reconstituted fuel. The staff has completed its Safety Evaluation Reports (SER) associated with review of this application. The staff concluded that the NUHOMS system with the revised contents (low enrichment/high burnup fuel, assemblies with stainless steel plugging clusters, and reconstituted fuel) for the 32PT DSC meets the acceptance criteria specified in 10 CFR Part 72. The SER for the TN NUHOMS®-32PT system documenting the staff's safety findings and conclusions was included as an enclosure to the letter to U.B. Chopra, dated March 30, 2005.

The NRC concludes that there is reasonable assurance that the proposed exemptions have no impact on off-site doses.

The potential environmental impact of using the NUHOMS® system was initially presented in the Environmental Assessment (EA) for the Final Rule to add the TN Standardized NUHOMS® Horizontal Modular Storage System for Irradiated Nuclear Fuel to the list of approved spent fuel storage casks in 10 CFR 72.214 (59 FR 65898, dated December 22, 1994). The potential environmental impact of using the NUHOMS®-32PT system was initially presented in the EA for the proposed rule to add the 32PTH system to the Standardized NUHOMS® system, Amendment No. 5 (68 FR 49726, dated August 19, 2003). The TN 32PT system does not increase the probability or consequences of accidents, no changes are being made in the types of any effluents that may be released offsite, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Alternative to the Proposed Action

Since there is no significant environmental impact associated with the proposed action, alternatives with equal or greater environmental impact were not evaluated. As an alternative to the proposed action, the staff considered denial or “no-action” of the proposed action. Denial of the exemption would result in no change in current environmental impact. NMC considers the “no-action” alternative to impact NMC's ability to provide affordable and competitive power since rescheduling of the fall 2005 loading campaign could impact future NMC budget planning.

Agencies and Persons Consulted

This exemption request was discussed with Mr. Lou Brandon, Chief of the Nuclear Facilities Unit, Department of Environmental Quality, for the State of Michigan, on September 7, 2005. He stated that the State had no comments on the technical aspects of the exemption. The NRC staff has determined that a consultation under Section 7 of the Endangered Species Act is not required because the proposed action will not affect listed species or critical habitat. The NRC staff has also determined that the proposed action is not a type of activity having the potential to cause effects on historic properties. Therefore, no further consultation is required under Section 106 of the National Historic Preservation Act.

Finding of No Significant Impact

The environmental impacts of the proposed action have been reviewed in accordance with the requirements set forth in 10 CFR Part 51. Based upon the foregoing EA, the Commission finds that the proposed action of granting the exemption from specific provisions of 10 CFR 72.212(a)(2), 72.212(b)(2)(i)(A), 72.212(b)(7), and 10 CFR 72.214, to allow NMC to use the proposed CoC No. 1004, Amendment No. 8, will not significantly impact the quality of the human environment. Accordingly, the Commission has determined that an environmental impact statement for the proposed exemption is not warranted.

In accordance with 10 CFR 2.390 of NRC's “Rules of Practice,” final NRC records and documents regarding this proposed action are publicly available in the records component of NRC's Agencywide Documents Access and Management System (ADAMS). The request for exemption dated August 22, 2005, and September 20, 2005, was docketed under 10 CFR Part 72, Docket No. 72-7. These documents may be inspected at NRC's Public Electronic Reading Room at http://www.nrc.gov/reading-rm/adams.html. These documents may also be viewed electronically on the public computers located at the NRC's Public Document Room (PDR), O-1F21, One White Flint North, 11555 Rockville Pike, Rockville, MD 20852. The PDR reproduction contractor will copy documents for a fee. Persons who do not have access to ADAMS or who encounter problems in accessing the documents located in ADAMS, should contact the NRC PDR Reference staff by telephone at 1-800-397-4209 or (301) 415-4737, or by e-mail to pdr@nrc.gov.

Dated at Rockville, Maryland, this 20th day of September, 2005.
For the Nuclear Regulatory Commission.
L. Raynard Wharton,
Project Manager, Spent Fuel Project Office, Office of Nuclear Material Safety and Safeguards.

[FR Doc. E5-5176 Filed 9-26-05; 8:45 am]

BILLING CODE 7590-01-P